DEPARTMENT OF THE INTERIOR

Bureau of Land Management

[ID-200-1120-DD-241A]

Notice of Public Meeting, Twin Falls District Resource Advisory Council Meeting, Idaho

AGENCY: Bureau of Land Management, Interior.

ACTION: Notice of Public Meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will meet as indicated below.

DATES: September 11, 2008. The Twin Falls District RAC meeting will begin at 9:30 a.m. (MST) and end no later than 4 p.m. at Grandstands Restaurant in Buhl, Idaho, located at 1003 Main Street. The public comment period for the RAC meeting will take place 10 a.m. to 10:30 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. The Twin Falls District RAC business meeting agenda will include the following topics: Wood River Land Trust presentation, setting goals for 2009 RAC meetings, Wilderness Study Area discussion, and addressing how RAC members can better interpret Resource Management Plans. Additional topics may be added and will be included in local media announcements. More information is available at http://www.blm.gov/id/st/en/res/resource_advisory.3.html. All meetings are open to the public. The public may present written comments to the RAC in advance of or at the meeting. Each formal RAC meeting will also have time allocated for receiving public comments. Depending on the number of persons wishing to comment and time available, the time for individual oral comments may be limited. Individuals who plan to attend and need special assistance, such as sign language interpretation or other reasonable accommodations, should contact the BLM as provided above.

Dated: August 6, 2008.
Bill Baker,
District Manager.

[FR Doc. E8-18555 Filed 8-8-08; 8:45 am]

BILLING CODE 4310-GG-P